DEPARTMENT OF AGRICULTURE

Forest Service

Notice of Intent To Grant Exclusive License

AGENCY: Forest Service, U.S. Department of Agriculture (USDA).

ACTION: Notice of intent.

SUMMARY: Notice is hereby given that the U.S. Department of Agriculture, Forest Service, intends to grant to East 30 Sensors, 1601 Kitzmiller Rd., Pullman, WA 99163, an exclusive license to U.S. Patent Application No. 16/120,783, “HIGH TEMPERATURE SOIL PROBE”, filed on September 04, 2018.

DATES: Comments must be received on or before November 4, 2019.

ADDRESSES: Send comments to: Thomas Moreland, Technology Transfer Coordinator, USDA Forest Service, 443-677-6858, twmoreland@fs.fed.us.

FOR FURTHER INFORMATION CONTACT: Thomas Moreland, Technology Transfer Coordinator, USDA Forest Service, 443-677-6858, twmoreland@fs.fed.us.

SUPPLEMENTARY INFORMATION: The Federal Government's patent rights in this invention are assigned to the United States of America, as represented by the Secretary of Agriculture. It is in the public interest to so license this invention as East 30 Sensors, 1601 Kitzmiller Rd., Pullman, WA 99163 has submitted a complete and sufficient application for a license. The prospective exclusive license will be royalty-bearing and will comply with the terms and conditions of 35 U.S.C. 209 and 37 CFR 404.7. The prospective exclusive license may be granted unless, within fifteen (15) days from the date of this published Notice, the USDA Forest Service receives written evidence and argument which establishes that the grant of the license would not be consistent with the requirements of 35 U.S.C. 209 and 37 CFR 404.7.

Mojdeh Bahar,
Assistant Administrator, Agricultural Research Service.

[FR Doc. 2019-22817 Filed 10-17-19; 8:45 am]

BILLING CODE 3410-03-P